INTERNATIONAL TRADE COMMISSION

[Investigation No. 337-TA-610]

In the Matter of Certain Endodontic Instruments; Notice of Commission Determination Not To Review Initial Determination Granting Complainant's Motion To Terminate the Investigation Based on Withdrawal of the Complaint

AGENCY: U.S. International Trade Commission.

ACTION: Notice.

SUMMARY: Notice is hereby given that the U.S. International Trade Commission has determined not to review the initial determination (“ID”) (Order No. 12) of the presiding administrative law judge (“ALJ”) granting complainant's motion to terminate the investigation based on withdrawal of the complaint in the above-captioned investigation under section 337 of the Tariff Act of 1930, as amended, 19 U.S.C. 1337 (“section 337”).

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: On July 6, 2007, the Commission instituted the above-captioned investigation based upon a complaint filed June 5, 2007, and supplemented June 22, 2007, on behalf of Dentsply International Inc. (York, Pennsylvania) (“Dentsply”). 72 FR 37051 (July 6, 2007). The complaint alleged violations of section 337 of the Tariff Act of 1930, as amended, 19 U.S.C. 1337, in the importation into the United States, the sale for importation, and the sale within the United States after importation of certain endodontic instruments by reason of infringement of claims 1, 2, 3, and 5 of U.S. Patent Nos. 5,628,674 and claim 2 of U.S. Patent No. 6,206,695. The complaint named as respondents Guidance Endodontics, LLC (Albuquerque, New Mexico) (“Guidance”) and Micro Mega International Manufactures (Besancon cedex, France) (“Micro Mega”).

On January 25, 2008, Dentsply filed a motion to terminate the investigation based on withdrawal of the complaint. The motion stated that Micro Mega does not oppose the motion. On February 4, 2008, Guidance stated that it did not oppose the motion. On February 6, 2008, the Commission investigative attorney filed a response in support of the motion.

On February 6, 2008, the ALJ issued the subject ID (Order No. 12) granting complainant's motion to terminate the investigation based on withdrawal of the complaint, pursuant to Commission Rule 210.21(a)(1). No petitions for review of the ID were filed. The Commission has determined not to review the subject ID. This action is taken under the authority of section 337 of the Tariff Act of 1930, as amended (19 U.S.C. 1337), and sections 210.41(a) and 210.42(h)(3), of the Commission's Rules of Practice and Procedure (19 CFR 210.41(a), 210.42(h)(3)).

By order of the Commission.
Issued: February 25, 2008.
Marilyn R. Abbott,
Secretary to the Commission.

[FR Doc. E8-3976 Filed 2-29-08; 8:45 am]

BILLING CODE 7020-02-P